SMALL BUSINESS ADMINISTRATION

Revocation of License of Small Business Investment Company

Pursuant to the authority granted to the United States Small Business Administration by the Wind-Up Order of the United States District Court for the Northern District of California, dated July 30, 2010, the United States Small Business Administration hereby revokes the license of AltoTech II, L.P., a California Limited Partnership, to function as a small business investment company under the Small Business Investment Company License No. 09790431 issued to AltoTech II, L.P. on December 04, 2000 and said license is hereby declared null and void as of July 30, 2010.

United States Small Business Administration.
Dated: October 24, 2011.
Sean J. Greene,
Associate Administrator for Investment.

[FR Doc. 2012-882 Filed 1-17-12; 8:45 am]

BILLING CODE 8025-01-P